DEPARTMENT OF TRANSPORTATION

Pipeline and Hazardous Materials Safety Administration

49 CFR Parts 192

[Docket No. PHMSA-2016-0002; Amdt. No. 192-137]

RIN 2137-AF13

Pipeline Safety: Periodic Updates of Regulatory References to Technical Standards and Miscellaneous Amendments; Technical Correction

AGENCY: Pipeline and Hazardous Materials Safety Administration (PHMSA), DOT.

ACTION: Final rule; correction.

SUMMARY: PHMSA is issuing a technical correction to regulations promulgated in its April 29, 2024, final rule titled “Periodic Updates of Regulatory References to Technical Standards and Miscellaneous Amendments.” The correction addresses text that was inadvertently deleted or omitted by the final rule.

DATES: This correction is effective June 28, 2024.

FOR FURTHER INFORMATION CONTACT:

Technical Information: Rod Seeley by phone at 281-513-1741 or by email at rodrick.m.seeley@dot.gov.

Regulatory Information: Brianna Wilson by phone at 771-215-0969 or by email at brianna.wilson@dot.gov.

SUPPLEMENTARY INFORMATION:

I. Background and Need for Technical Correction

On April 29, 2024, PHMSA published a final rule titled “Pipeline Safety: Periodic Updates of Regulatory References to Technical Standards and Miscellaneous Amendments,” ¹ which incorporates by reference all or parts of more than 20 new or updated voluntary, consensus industry technical standards. The amendments in the final rule allow pipeline operators to use current technologies, improved materials, and updated industry and management practices. Additionally, the final rule clarified certain regulatory provisions and made several editorial corrections. This notice identifies a technical correction at 49 CFR 192.121(c)(2)(iv), as set forth below. The final rule inadvertently deleted or omitted text found at Table 1 under § 192.121(c)(2)(iv). The publication of this correction is needed to ensure that the final rule reads as intended.

¹ 89 FR 33264 (Apr. 29, 2024).

II. Regulatory Analyses and Notices

A. Statutory/Legal Authority

Statutory authority for this notice's correction to the final rule, as with the final rule itself, whose discussion of statutory authority at Section VI., 89 FR 33264, is adopted herein by reference, is provided by the Federal Pipeline Safety Act (49 U.S.C. 60101 et seq.). The Secretary delegated his authority under the Federal Pipeline Safety Act to the PHMSA Administrator under 49 CFR 1.97.

PHMSA finds it has good cause to make this correction without notice and comment pursuant to section 553(b) of the Administrative Procedure Act (APA, 5 U.S.C. 551 et seq.). Section 553(b)(B) of the APA provides that, when an agency for good cause finds that notice and public procedure are impracticable, unnecessary, or contrary to the public interest, the agency may issue a rule without providing notice and an opportunity for public comment. As explained above, the textual alterations herein consist of an editorial and technical correction, including revision to or codification of regulatory language inadvertently deleted or omitted by the final rule, consistent with statements in the administrative record. The technical correction makes no substantive changes to the final rule but merely facilitate its implementation by aligning the regulatory text with the explanatory material in the final rule's preamble, amendatory text, and administrative record. Because the final rule is the product of an extensive administrative record with numerous opportunities for public comment, including through written comments and the Pipeline Advisory Committees, PHMSA finds that additional comment on the correction herein is unnecessary.

The immediate effective date of the correction contained in this document is authorized under 5 U.S.C. 553(d)(3) of the APA. Section 553(d)(3) provides that a rule should take effect “not less than 30 days” after publication in the Federal Register, except for when good cause is found by the agency and published within the rule, thus allowing for earlier effectiveness. 5 U.S.C. 553(d)(3). “[T]he purpose of the thirty-day waiting period is to give affected parties a reasonable time to adjust their behavior before the final rule takes effect.” Omnipoint Corp. v. F.C.C., 78 F.3d 620, 630 (D.C. Cir. 1996). PHMSA finds that good cause under section 553(d)(3) of the APA supports making the revisions effective upon publication in the Federal Register because the editorial and technical correction at § 192.121 (c)(2)(iv) is consistent with the preamble of the final rule and Advisory Committee discussions on the subject.

B. Executive Order 12866 and 14094, and DOT Regulatory Policies and Procedures

This correction has been evaluated in accordance with existing policies and procedures and is considered not significant under each of Executive Orders 12866 (“Regulatory Planning and Review”) ² and 14094 (“Modernizing Regulatory Review”),³ and DOT Order 2100.6A (“Rulemaking and Guidance Procedures”); therefore, this notice has not been reviewed by the Office of Management and Budget (OMB). PHMSA finds that the editorial and technical correction herein, in all respects consistent with the final rule, imposes no incremental compliance costs nor adversely affects safety, as it merely corrects a non-substantive typographical error made during the drafting of the final rule and restores the intent of the final rule as discussed in its preamble and supporting documentation.

² 58 FR 51735, (Oct. 4, 1993).

³ 88 FR 21879 (Apr. 11, 2023).

C. Regulatory Flexibility Act, Executive Order 13272, and DOT Policies and Procedures

The Regulatory Flexibility Act (5 U.S.C. 601 et seq.) requires agencies to review regulations to assess their impact on small entities unless the agency head certifies that a rulemaking will not have a significant economic impact on a substantial number of small entities including small businesses, not-for-profit organizations that are independently owned and operated and are not dominant in their fields, and governmental jurisdictions with populations under 50,000. The Regulatory Flexibility Act directs agencies to establish exceptions and differing compliance standards for small businesses, where possible to do so and still meet the objectives of applicable regulatory statutes. Executive Order 13272 (“Proper Consideration of Small Entities in Agency Rulemaking”) ⁴ requires agencies to establish procedures and policies to promote compliance with the Regulatory Flexibility Act and to “thoroughly review draft rules to assess and take appropriate account of the potential impact” of the rules on small businesses, governmental jurisdictions, and small organizations. The DOT posts its implementing guidance on a dedicated web page.⁵

⁴ 67 FR 53461 (Aug. 16, 2002).

⁵ DOT, “Rulemaking Requirements Related to Small Entities,” https://www.transportation.gov/regulations/rulemaking-requirements-concerning-small-entities (last accessed June 17, 2021).

As explained in the Final Regulatory Flexibility Analysis (FRFA), PHMSA found that the final rule would not have a significant impact on a substantial number of small entities.⁶ Therefore, PHMSA expects that these corrections—like the amendments in the final rule—will not have a significant economic impact on a substantial number of small entities. Because the technical corrections herein will impose no new incremental compliance costs, PHMSA understands the analysis in the FRFA remains unchanged.

⁶ 89 FR 33264, 33276.

D. Paperwork Reduction Act

The correction in this document imposes no new or revised information collection requirements beyond those discussed in the final rule.

E. Unfunded Mandates Reform Act of 1995

PHMSA analyzed the correction in this notice under the factors in the Unfunded Mandates Reform Act of 1995 (UMRA, 2 U.S.C. 1501 et seq.) and determined that the corrections to the final rule herein do not impose enforceable duties of $100 million or more, adjusted for inflation, in any one year, on State, local, or Tribal governments, or on the private sector. PHMSA prepared an analysis of the UMRA considerations in the final rule, which is available in the docket for the rulemaking. Because the correction herein will impose no new incremental compliance costs, the analysis in that UMRA discussion for the final rule remains unchanged.

F. Environmental Assessment

The National Environmental Policy Act of 1969 (NEPA, 42 U.S.C. 4321 et seq.) requires Federal agencies to prepare a detailed statement on major Federal actions significantly affecting the quality of the human environment. PHMSA analyzed the final rule in accordance with NEPA, implementing Council on Environmental Quality regulations (40 CFR parts 1500-1508), and DOT implementing policies (DOT Order 5610.1C, “Procedures for Considering Environmental Impacts”) and determined the final rule would not significantly affect the quality of the human environment.⁷ The correction to the final rule in this notice has no effect on PHMSA's earlier NEPA analysis, as it is consistent with, and facilitates compliance with, the final rule.

⁷ 89 FR 33264, 33276-78 (Apr. 29, 2024).

G. Privacy Act Statement

In accordance with 5 U.S.C. 553(c), the DOT solicits comments from the public to inform its rulemaking process. The DOT posts these comments, without edit, including any personal information the commenter provided, to www.regulations.gov, as described in the system of records notice (DOT/ALL-14 FDMS), which can be reviewed at www.dot.gov/privacy.

H. Executive Order 13132 (Federalism)

PHMSA has analyzed this correction in accordance with the principles and criteria contained in Executive Order 13132 (“Federalism”).⁸ The correction herein is consistent with, and facilitates compliance with, the final rule, and does not have any substantial direct effect on the States, the relationship between the Federal Government and the States, or the distribution of power and responsibilities among the various levels of government beyond what was accounted for in the final rule. This notice does not contain any provision that imposes any substantial direct compliance costs on State or local governments, nor any new provision that preempts State law. Therefore, the consultation and funding requirements of Executive Order 13132 do not apply.

⁸ 64 FR 43255 (Aug. 10, 1999).

I. Executive Order 13211

Executive Order 13211 (“Actions Concerning Regulations That Significantly Affect Energy Supply, Distribution, or Use”) ⁹ requires federal agencies to prepare a Statement of Energy Effects for any “significant energy action.” The correction herein does not invoke any issues under Executive Order 13211.

⁹ 66 FR 28355 (May 22, 2001).

J. Executive Order 13175

This correction was analyzed in accordance with the principles and criteria contained in Executive Order 13175 (“Consultation and Coordination with Indian Tribal Governments”) ¹⁰ and DOT Order 5301.1A (“Department of Transportation Tribal Consultation Policies and Procedures”). Executive Order 13175 and DOT Order 5301.1A require DOT Operating Administrations to assure meaningful and timely input from Native American tribal government representatives in the development of rules that significantly or uniquely affect tribal communities by imposing “substantial direct compliance costs” or “substantial direct effects” on such communities, or the relationship and distribution of power between the Federal Government and Native American tribes. Because the correction herein does not have Tribal implications or impose substantial direct compliance costs on Indian Tribal governments, the funding and consultation requirements of Executive Order 13175 do not apply.

¹⁰ 65 FR 67249 (Nov. 6, 2000).

K. Executive Order 13609 and International Trade Analysis

Under Executive Order 13609 (“Promoting International Regulatory Cooperation”),¹¹ agencies must consider whether the impacts associated with significant variations between domestic and international regulatory approaches are unnecessary or may impair the ability of American business to export and compete internationally. In meeting shared challenges involving health, safety, labor, security, environmental, and other issues, international regulatory cooperation can identify approaches that are at least as protective as those that are or would be adopted in the absence of such cooperation. International regulatory cooperation can also reduce, eliminate, or prevent unnecessary differences in regulatory requirements. The correction to the final rule in this notice does not impact international trade.

¹¹ 77 FR 26413 (May 4, 2012).

L. National Technology Transfer and Advancement Act

The National Technology Transfer and Advancement Act of 1995 (15 U.S.C. 272 note) directs federal agencies to use voluntary consensus standards in their regulatory activities unless doing so would be inconsistent with applicable law or otherwise impractical. Voluntary consensus standards are technical standards (e.g., specification of materials, test methods, or performance requirements) that are developed or adopted by voluntary consensus standard bodies. The final rule adopted more than 20 new or updated voluntary, consensus industry technical standards. The correction herein does not change the final rule's analysis.

M. Cybersecurity and Executive Order 14028

Executive Order 14028 (“Improving the Nation's Cybersecurity”) ¹² directed the federal government to improve its efforts to identify, deter, and respond to “persistent and increasingly sophisticated malicious cyber campaigns.” The correction herein does not invoke any cybersecurity issues.

¹² 86 FR 26633 (May 17, 2021).

N. Severability

This correction does not present any issues with severability.

O. Regulation Identifier Number (RIN)

A RIN is assigned to each regulatory action listed in the Unified Agenda of Federal Regulations. The Regulatory Information Service Center publishes the Unified Agenda in April and October of each year. The RIN contained in the heading of this document can be used to cross-reference this action with the Unified Agenda.

List of Subjects in 49 CFR Part 192

Incorporation by reference, Pipeline safety, Natural gas.

Correction

In FR Doc. 2024-08624 that appears on page 33281 of the Federal Register on Monday, April 29, 2024, the following correction is made:

1. On page 33281, in column 1, in amendatory instruction 8, paragraph (c)(2)(iv) is corrected to read as follows:

§ 192.121 [Corrected]

* * * * *

(c) * * *

(2) * * *

(iv) The wall thickness for a given outside diameter is not less than that listed in Table 1 to this paragraph (c)(2)(iv):

Table 1 to Paragraph (c)(2)(iv)
PE pipe: minimum wall thickness and SDR values: Pipe size (inches) | PE pipe: minimum wall thickness and SDR values: Minimum wall thickness (inches) | PE pipe: minimum wall thickness and SDR values: Corresponding dimension ratio (values)
½″ CTS | 0.090 | 7
½″ IPS | 0.090 | 9.3
¾″ CTS | 0.090 | 9.7
¾″ IPS | 0.095 | 11
1″ CTS | 0.099 | 11
1″ IPS | 0.119 | 11
1 ¼″ CTS | 0.121 | 11
1 ¼″ IPS | 0.151 | 11
1 ½″ IPS | 0.173 | 11
2″ | 0.216 | 11
3″ | 0.259 | 13.5
4″ | 0.265 | 17
6″ | 0.315 | 21
8″ | 0.411 | 21
10″ | 0.512 | 21
12″ | 0.607 | 21
16″ | 0.762 | 21
18″ | 0.857 | 21
20″ | 0.952 | 21
22″ | 1.048 | 21
24″ | 1.143 | 21

* * * * *

Issued in Washington, DC, on June 20, 2024, under authority delegated in 49 CFR 1.97.
Tristan H. Brown,
Deputy Administrator.

[FR Doc. 2024-14115 Filed 6-27-24; 8:45 am]

BILLING CODE 4910-60-P